DEPARTMENT OF COMMERCE

International Trade Administration

[A-357-823, A-351-857, A-533-903, A-823-820, A-552-833]

Raw Honey From Argentina, Brazil, India, Ukraine, and the Socialist Republic of Vietnam: Postponement of Preliminary Determinations in the Less-Than-Fair-Value Investigations

AGENCY: Enforcement and Compliance, International Trade Administration, Department of Commerce.

DATES: Applicable August 26, 2021.

FOR FURTHER INFORMATION CONTACT: Thomas Martin at (202) 482-3936 or Eva Kim at (202) 482-8283 (Argentina); Justin Neuman at (202) 482-0486 (Brazil); Brittany Bauer at (202) 482-3860 (India); Jasun Moy at (202) 482-8194 (Ukraine); and Jonathan Hill at (202) 482-3518 (the Socialist Republic of Vietnam (Vietnam)); AD/CVD Operations, Enforcement and Compliance, International Trade Administration, U.S. Department of Commerce, 1401 Constitution Avenue NW, Washington, DC 20230.

SUPPLEMENTARY INFORMATION:

Background

On May 11, 2021, the Department of Commerce (Commerce) initiated the less-than-fair-value (LTFV) investigations of raw honey from Argentina, Brazil, India, Ukraine, and Vietnam.¹ Currently, the preliminary determinations are due no later than September 28, 2021.

¹ See Raw Honey from Argentina, Brazil, India, Ukraine, and the Socialist Republic of Vietnam: Initiation of Less-Than-Fair-Value Investigations, 86 FR 26897 (May 18, 2021).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 17, 2021, the American Honey Producers Association and the Sioux Honey Association (collectively, the petitioners) submitted a timely request that Commerce postpone the preliminary determinations in the LTFV investigations for Argentina, Brazil, India, Ukraine, and Vietnam.² The petitioners stated that they request postponement due to concerns that Commerce will need more time to issue supplemental questionnaires to address deficiencies in the respondents' initial questionnaire responses. Further, the petitioners noted that Commerce has not yet determined the cost of production methodology that it will rely on for many of these investigations.³

² See Petitioners' Letter, “Raw Honey from Argentina, Brazil, India, Ukraine, and Vietnam—Petitioners' Request for Postponement of Preliminary Antidumping Determinations,” dated August 17, 2021.

³ Id.

For the reasons stated above, and because there are no compelling reasons to deny the request, Commerce, in accordance with section 733(c)(1)(A) of the Act and 19 CFR 351.205(e), is postponing the deadline for the preliminary determinations for Argentina, Brazil, India, Ukraine, and Vietnam by 50 days (i.e., 190 days after the date on which these investigations were initiated). As a result, Commerce will issue its preliminary determinations no later than November 17, 2021. In accordance with section 735(a)(1) of the Act and 19 CFR 351.210(b)(1), the deadline for the final determinations in these investigations will continue to be 75 days after the date of the preliminary determinations, unless postponed at a later date.

Notification to Interested Parties

This notice is issued and published pursuant to section 733(c)(2) of the Act and 19 CFR 351.205(f)(1).

Dated: August 20, 2021.
James Maeder,
Deputy Assistant Secretary for Antidumping and Countervailing Duty Operations.

[FR Doc. 2021-18366 Filed 8-25-21; 8:45 am]

BILLING CODE 3510-DS-P